DEPARTMENT OF VETERANS AFFAIRS

[OMB Control No. 2900-0657]

Agency Information Collection Activity Under OMB Review: Conflicting Interests Certification for Proprietary Schools

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Comments must be submitted on or before June 16, 2017.

ADDRESSES: Submit written comments on the collection of information through www.Regulations.gov, or to Office of Information and Regulatory Affairs, Office of Management and Budget, Attn: VA Desk Officer; 725 17th St. NW., Washington, DC 20503 or sent through electronic mail to oira_submission@omb.eop.gov.

Please refer to “OMB Control No. 2900-0657” in any correspondence.

FOR FURTHER INFORMATION CONTACT: Cynthia Harvey-Pryor, Enterprise Records Service (005R1B), Department of Veterans Affairs, 810 Vermont Avenue NW., Washington, DC 20420, (202) 461-5870 or email cynthia.harvey-pryor@va.gov.

Please refer to “OMB Control No. 2900-0657” in any correspondence.

SUPPLEMENTARY INFORMATION:

Authority: 38 U.S.C. 3683.

Title: Conflicting Interests Certification for Proprietary Schools, VA Form 22-1919.

OMB Control Number: 2900-0657.

Type of Review: Revision of a currently approved collection.

Abstract: VA Form 22-1919 is used to allow schools to submit information necessary to determine if a student's programs of training are approved for the payment of VA educational assistance. This specified information is submitted either to VA or to the State approving agency (SAA) having jurisdiction over that school. Section 3683 of title 38, U.S.C., and sections of title 38 of the Code of Regulations (CFR) establish conflict of interest restrictions related to proprietary schools. VA Form 22-1919 is the instrument VA has implemented to address these restrictions. The form is only used to collect information on two issues:

• Collects the name and title of affected VA and SAA employees known by the President (or Chief Administrative Official) of the school, as well as a description of these employees' association with that school.

• Collects information for each certifying official, owner, or officer who receives VA educational assistance based on an enrollment in that proprietary school: the name and title of these employees; VA file numbers; and dates of enrollment at the proprietary school

An agency may not conduct or sponsor, and a person is not required to respond to a collection of information unless it displays a currently valid OMB control number. The Federal Register Notice with a 60-day comment period soliciting comments on this collection of information was published at 82 FR 63 on Tuesday, April 4, 2017, page 16475.

Affected Public: Institutions of Higher Learning.

Estimated Annual Burden: 34.

Estimated Average Burden per Respondent: 10 minutes.

Frequency of Response: Occasionally.

Estimated Number of Respondents: 202.

By direction of the Secretary.
Cynthia Harvey-Pryor,
Department Clearance Officer, Enterprise Records Service, Office of Quality and Compliance, Department of Veterans Affairs.

[FR Doc. 2017-09949 Filed 5-16-17; 8:45 am]

BILLING CODE 8320-01-P